DEPARTMENT OF TRANSPORTATION

Federal Aviation Administration

14 CFR Part 39

[Docket No. 2001-NM-205-AD]

RIN 2120-AA64

Airworthiness Directives; Airbus Model A300 B2 and A300 B4 Series Airplanes; Model A300 F4-605R Airplanes; Model A300 B4-600 and A300 B4-600R Series Airplanes; and Model A310 Series Airplanes

AGENCY: Federal Aviation Administration, DOT.

ACTION: Notice of proposed rulemaking (NPRM).

SUMMARY: This document proposes the adoption of a new airworthiness directive (AD) that is applicable to certain Airbus Model A300 B2 and A300 B4 series airplanes; certain Model A300 F4-605R airplanes and Model A300 B4-600 and A300 B4-600R series airplanes; and certain Model A310 series airplanes. This proposal would require repetitive inspections to detect damage of the fillet seals and feeder cables, and of the wiring looms in the wing/pylon interface area; and corrective action, if necessary. This proposal also would provide for optional terminating action for the repetitive inspections. This action is necessary to prevent wire chafing and short circuits in the wing leading edge/pylon interface area, which could result in loss of the power supply generator and/or system functions. This action is intended to address the identified unsafe condition.

DATES: Comments must be received by November 5, 2001.

ADDRESSES: Submit comments in triplicate to the Federal Aviation Administration (FAA), Transport Airplane Directorate, ANM-114, Attention: Rules Docket No. 2001-NM-205-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2001-NM-205-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-205-AD.” The postcard will be date-stamped and returned to the commenter.

Availability of NPRMs

Any person may obtain a copy of this NPRM by submitting a request to the FAA, Transport Airplane Directorate, ANM-114, Attention: Rules Docket 2001-NM-205-AD, 1601 Lind Avenue, SW., Renton, Washington 98055-4056.

Background

In July 1996, a Boeing Model 747 series airplane was involved in an accident. As part of re-examining all aspects of the service experience of the airplane involved in the accident, the FAA participated in design review and testing to determine possible sources of ignition in center fuel tanks. As part of the review, the FAA examined fuel system wiring with regard to the possible effects that wire degradation may have on arc propagation.

In 1997 in a parallel preceding, at the recommendation of the White House Commission on Aviation Safety and Security, the FAA expanded its Aging Transport Program to include non-structural systems and assembled a team for evaluating these systems. This team performed visual inspections of certain transport category airplanes for which 20 years or more had passed since date of manufacture. In addition, the team gathered information from interviews with FAA Principal Maintenance Inspectors and meetings with representatives of airplane manufacturers. This evaluation revealed that the length of time in service is not the only cause of wire degradation; inadequate maintenance, contamination, improper repair, and mechanical damage are all contributing factors. From the compilation of this comprehensive information, we developed the Aging Transport Non-Structural Systems Plan to increase airplane safety by increasing knowledge of how non-structural systems degrade and how causes of degradation can be reduced.

In 1999, the FAA Administrator established a formal advisory committee to facilitate the implementation of the Aging Transport Non-Structural Systems Plan. This committee, the Aging Transport Systems Rulemaking Advisory Committee (ATSRAC), is made up of representatives of airplane manufacturers, operators, user groups, aerospace and industry associations, and government agencies. As part of its mandate, ATSRAC will recommend rulemaking to increase transport category airplane safety in cases where solutions to safety problems connected to aging systems have been found and must be applied. Detailed analyses of certain transport category airplanes that have been removed from service, studies of service bulletins pertaining to certain wiring systems, and reviews of previously issued ADs requiring repetitive inspections of certain wiring systems, have resulted in valuable information on the cause and prevention of wire degradation due to various contributing factors (e.g., inadequate maintenance, contamination, improper repair, and mechanical damage).

In summary, as a result of the investigations described above, the FAA has determined that corrective action may be necessary to minimize the potential hazards associated with wire degradation and related causal factors (e.g., inadequate maintenance, contamination, improper repair, and mechanical damage).

Identification of Unsafe Condition

The FAA has received reports of wire chafing and short circuits in the area of the wing leading edge/pylon interface on airplanes affected by this proposed AD. In some cases, this has resulted in in-flight turnbacks. Significant clearance is necessary between the structural components in this area. This clearance is closed by a seal installed on the fillet fairing. On some airplanes, the seal has been torn from the forward fillet fairing between the pylon and the wing. Air flowing through the gap created by the torn seal damages the electrical bundles by chafing against the wiring and/or the feeder cables located inside the pylon. This condition, if not corrected, could result in short circuits at the wing leading edge/pylon interface and consequent loss of the power supply generator and/or system functions.

Other Related Rulemaking

This proposed AD is one of a series of actions identified as part of the ATSRAC program initiative to maintain continued operational safety of aging non-structural systems in transport category airplanes. The program is continuing, and the FAA may consider additional rulemaking actions as further results of the review become available.

Explanation of Relevant Service Information

Airbus has issued the following service bulletins:

Procedures | Service bulletin | Model/series
Repetitive general visual inspections of the fillet seals and feeder cables to detect damage; repair if necessary; and application of protection to the feeder cables | A300-24-0053, Revision 05, dated January 3, 2001 A300-24-6011, Revision 05, dated May 18, 2001 A310-24-2021, Revision 06, dated May 18, 2001 | A300 A300-600 A310
Repetitive general visual inspections of the wiring looms in the wing/pylon interface to detect chafing, burning, or short circuits; repair, if necessary; and application of protection to the wiring looms and the bundles routed through the convoluted conduits between rib 10 and rib 12 | A300-24-0083, Revision 03, dated January 3, 2001 A300-24-6039, Revision 06, dated April 6, 2001 A310-24-2052, Revision 04, dated April 6, 2001 | A300 A300-600 A310
Replacement of fillet panel assemblies with improved parts to improve the sealing between the fillets and wings, which would eliminate the need for the repetitive inspections described above | A300-54-0095, Revision 01, dated January 3, 2001 A300-54-6032, Revision 03, dated January 3, 2001 A310-54-2033, Revision 01, dated January 3, 2001 | A300 A300-600 A310

Accomplishment of the actions specified in the service bulletins is intended to adequately address the identified unsafe condition.

Service Bulletins A300-24-0053, A300-24-6011, and A310-24-2021 refer to Airbus Service Bulletins A300-24-0054, A300-24-6013, and A310-24-2024, respectively, as additional sources of service information for repair.

U.S. Type Certification of the Airplanes

These airplane models are manufactured in France and are type certificated for operation in the United States under the provisions of section 21.29 of the Federal Aviation Regulations (14 CFR 21.29) and the applicable bilateral airworthiness agreement.

Explanation of Requirements of Proposed Rule

Since an unsafe condition has been identified that is likely to exist or develop on other airplanes of the same type design registered in the United States, the proposed AD would require accomplishment of the actions specified in Airbus Service Bulletins A300-24-0053, A300-24-6011, A310-24-2021, A300-24-0083, A300-24-6039, and A310-24-2052, described previously.

Cost Impact

The FAA estimates that 107 airplanes of U.S. registry would be affected by this proposed AD.

It would take approximately 6 work hours per airplane to inspect the seals/cables at an average labor rate of $60 per work hour. Based on these figures, the cost impact of this proposed inspection on U.S. operators is estimated to be $38,520, or $360 per airplane, per inspection cycle.

It would take approximately 5 work hours per airplane to inspect the wiring looms and apply the protection, at an average labor rate of $60 per work hour. Based on these figures, the cost impact of this proposed inspection on U.S. operators is estimated to be $32,100, or $300 per airplane, per inspection cycle.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Should an operator elect to perform the optional terminating action, it would take approximately 5 work hours per airplane to replace the fillet panel assemblies, at an average labor rate of $60 per work hour. Required parts would cost approximately $350 to $470 per airplane. Based on these figures, the cost impact of the optional terminating action on U.S. operators is estimated to be $650 to $770 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 2001-NM-205-AD.

Applicability: The following airplanes, certificated in any category:

Table 1.—Applicability
Model— | Excluding those modified per Airbus modification—
A300 B2-1C, A300 B2-203, A300 B2K-3C, and A300 B4 series airplanes | 11349 or 12309.
A300 F4-605R airplanes, A300 B4-600 series airplanes, and A300 B4-600R series airplanes | 11348 or 12303.
A310 series airplanes | 11350 or 12310.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent wire chafing and short circuits in the wing leading edge/pylon interface area, which could result in loss of the power supply generator and/or system functions, accomplish the following:

Inspections

(a) Within 500 flight hours after the effective date of this AD, perform a general visual inspection to detect damage (including erosion and tearing) and deterioration of the fillet seals and feeder cables, in accordance with Airbus Service Bulletin A300-24-0053, Revision 05, dated January 3, 2001 (for Model A300 series airplanes); A300-24-6011, Revision 05, dated May 18, 2001 (for Model A300-600 series airplanes); or A310-24-2021, Revision 06, dated May 18, 2001 (for Model A310 series airplanes). Repeat the inspection thereafter at intervals not to exceed 1,000 flight hours, until the actions specified by paragraph (c) are accomplished.

(1) If no damage is detected: Prior to further flight following the initial inspection only, apply protection to each feeder cable in accordance with the applicable service bulletin.

(2) If any damage is detected: Prior to further flight, repair in accordance with the applicable service bulletin.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Note 3: For Model A300-600 series airplanes: Accomplishment prior to the effective date of this AD of the actions specified by Airbus Service Bulletin A300-24-6011, Revision 04, and A310-24-2021, Revision 05, both dated April 20, 1999, is acceptable for compliance with the requirements of paragraph (a) of this AD.

Note 4: Airbus Service Bulletins A300-24-0053, A300-24-6011, and A310-24-2021 refer to Airbus Service Bulletins A300-24-0054, A300-24-6013, and A310-24-2024, respectively, as additional sources of service information for repair.

(b) Within 500 flight hours after the effective date of this AD: Perform a general visual inspection of the wiring looms in the area of the wing leading edge/pylon interface to detect damage (including chafing, burning, and short circuits), in accordance with Airbus Service Bulletin A300-24-0083, Revision 03, dated January 3, 2001 (for Model A300 series airplanes); A300-24-6039, Revision 06, dated April 6, 2001 (for Model A300-600 series airplanes); or A310-24-2052, Revision 04, dated April 6, 2001 (for Model A310 series airplanes); as applicable. Repeat the inspection thereafter at least every 1,000 flight hours, until the actions specified by paragraph (c) of this AD have been accomplished.

(1) If no damage is detected: Prior to further flight following the initial inspection only, apply protection in accordance with the applicable service bulletin.

(2) If any damage is detected: Prior to further flight, repair in accordance with the applicable service bulletin.

Note 5: Accomplishment prior to the effective date of this AD of the inspection in accordance with Airbus Service Bulletin A300-24-0083, Revision 02, dated March 29, 1999; A300-24-6039, Revision 05, dated February 11, 2000; or A310-54-2052, Revision 03, dated March 5, 1999; as applicable; is acceptable for compliance with the requirements of paragraph (b) of this AD.

Optional Terminating Action

(c) Replacement of the fillet panel assemblies with new, improved assemblies, in accordance with Airbus Service Bulletin A300-54-0095, Revision 01 (for Model A300 series airplanes); A300-54-6032, Revision 03 (for Model A300-600 series airplanes); or A310-54-2033, Revision 01 (for Model A310 series airplanes); all dated January 3, 2001; terminates the requirements of this AD.

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 6: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Issued in Renton, Washington, on September 28, 2001.
Vi L. Lipski,
Manager, Transport Airplane Directorate, Aircraft Certification Service.

[FR Doc. 01-24872 Filed 10-3-01; 8:45 am]

BILLING CODE 4910-13-U